DEPARTMENT OF AGRICULTURE

Forest Service

California Coast Provincial Advisory Committee

AGENCY: Forest Services, USDA.

ACTION: Notice of meeting.

SUMMARY: The California Coast Provincial Advisory Committee (PAC) will meet on March 13, 2003, in Lake County, California. The purpose of the meeting is to discuss issues relating to implementing the Northwest Forest Plan while taking a field visit to the proposed Pillsbury Homesite Hazardous Fuels Reduction demonstration project.

DATES: The meeting will be held from 8:30 a.m. to 4 p.m. on March 13, 2003, convening at the Upper Lake Ranger District Office in Upper Lake, CA.

ADDRESSES: The meeting will be held in the field, convening at the Upper Lake Ranger District office, 10025 Elk Mountain Road, Upper Lake, CA.

FOR FURTHER INFORMATION CONTACT: Phebe Brown, Committee Coordinator, USDA, Mendocino National Forest, 825 N. Humboldt Avenue, Willows, CA, 95988, (530) 934-1137; EMAIL pybrown@fs.fed.us.

SUPPLEMENTARY INFORMATION: Agenda items to be covered include: (1) Field visit to the proposed Pillsbury Homesite Hazardous Fuels Reduction/Healthy Forests Initiative/Model Environmental Analysis demonstration project; (2) Regional Ecosystem Office (REO) update; (3) Presentation on current major Forest Service issues; (4) Update on planning for a Province fire ecology/fuels treatment workshop; (5) Aquatic Conservation Subcommittee report; (6) Work on the Ground Subcommittee discussion of proposed timber harvest issue; (7) Update on Northwest Forest Plan socio-economic monitoring; and (8) Public comment. The meeting is open to the public. Public input opportunity will be provided and individuals will have the opportunity to address the Committee at that time.

Dated: February 14, 2003.
James Fenwood,
Forest Supervisor.

[FR Doc. 03-4310 Filed 2-21-03; 8:45 am]

BILLING CODE 3410-11-M